DEPARTMENT OF HEALTH AND HUMAN SERVICES

Administration for Children and Families

Proposed Information Collection Activity; Comment Request Proposed Projects: Domestic Victims of Human Trafficking Program

Title: Domestic Victims of Human Trafficking Program Data.

OMB No.: 0970-NEW.

Description: The Trafficking Victims Protection Act of 2000 (TVPA), as amended, authorizes the Secretary of Health and Human Services to establish a program to assist United States citizens and lawful permanent residents who are victims of severe forms of trafficking (22 U.S.C. 7105(f)). The Office on Trafficking in Persons (OTIP) awarded thirteen cooperative agreements to implement the Domestic Victims of Human Trafficking (DVHT) Program. The DVHT Program provides funding for comprehensive case management services to domestic victims of severe forms of trafficking to ensure the provision of services with an emphasis on long-term housing, substance abuse treatment, and the integration of survivor-led services.

The intent of this program is to build, expand, and sustain organizational and community capacity to deliver trauma-informed, strengths-based, and person-centered services for domestic victims of human trafficking through coordinated case management, a system of agency services, and community partnerships. The DVHT Program encourages innovative practices and collaboration efforts among community stakeholders to ensure long-term outcomes for domestic victims of severe forms of trafficking.

OTIP proposes to collect information from DVHT grantees on a semi-annual and annual basis to help measure each grant project's performance and the success of the program in assisting participants, to assist grantees to assess and improve their projects over the course of the project period, and to fulfill congressional reporting requests. The proposed information collection includes elements on participant demographics (e.g., age, sex, and country of origin), types of trafficking experienced (sex, labor, or both), types of enrollment, types of services requested and provided, barriers to service delivery, types of partnerships developed through the grant, and the types of training and technical assistance provided to subrecipient organizations or other partners.

This information will help OTIP assess the project's performance in assisting victims of trafficking and will better enable DVHT grantees to meet the program objectives and to monitor and evaluate the quality of case management services provided to victims. OTIP will also include aggregate information in reports to Congress to help inform strategies and policies to assist domestic victims of human trafficking.

Respondents: Domestic Victims of Human Trafficking Program Grantees.

Annual Burden Estimates
Instrument | Number of respondents | Number of responses per respondent | Average burden hours per response | Total burden hours
Client Characteristics and Enrollment Form | 636 | 1 | .3 | 190.8
Client Service Use and Delivery Form | 636 | 1 | .25 | 159
Client Case Closure Form | 636 | 1 | .167 | 106.212
Barriers to Service Delivery Form | 36 | 5 | .167 | 30.06
Partnership Development Enrollment Form | 172 | 1 | .25 | 43
Partnership Development Exit Form | 172 | 1 | .083 | 14.276
Training Form | 36 | 4 | .5 | 72
Technical Assistance Form | 36 | 4 | .5 | 72

Estimated Total Annual Burden Hours: 687.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2019-01691 Filed 2-7-19; 8:45 am]

BILLING CODE 4184-47-P